DEPARTMENT OF COMMERCE

National Oceanic and Atmospheric Administration

RIN 0648-XF040

Pacific Fishery Management Council; Public Meeting

AGENCY: National Marine Fisheries Service (NMFS), National Oceanic and Atmospheric Administration (NOAA), Commerce.

ACTION: Notice; public meeting.

SUMMARY: The Pacific Fishery Management Council's (Council) Ad Hoc Ecosystem Workgroup (EWG) will hold a webinar, which is open to the public.

DATES: The webinar will be held on January 10, 2017, from 1:30 to 4:30 p.m., or when business for the day is completed.

ADDRESSES: To join the webinar visit this link: http://www.gotomeeting.com/online/webinar/join-webinar. Enter the Webinar ID: 917-479-603. Enter your name and email address (required). Once you have joined the webinar, choose either your computer's audio or select “Use Telephone.” If you do not select “Use Telephone” you will be connected to audio using your computer's microphone and speakers (VolP). To use your telephone for the audio portion of the meeting dial this TOLL number +1 (914) 614-3221 (not a toll-free number); then enter the Attendee phone audio access code 462-275-391, then enter your audio phone pin (shown after joining the webinar). Participants are encouraged to use their telephone, as this is the best practice to avoid technical issues and excessive feedback. You may send an email to Mr. Kris Kleinschmidt (kris.kleinschmidt@noaa.gov) or contact him at (503) 820-2425 for technical assistance. A public listening station will also be provided at the Pacific Council office.

Council address: Pacific Council, 7700 NE Ambassador Place, Suite 101, Portland, OR 97220-1384.

FOR FURTHER INFORMATION CONTACT: Dr. Kit Dahl, Pacific Council Staff Officer; phone: (503) 820-2422; email: kit.dahl@noaa.gov.

SUPPLEMENTARY INFORMATION: The purpose of the webinar is for the EWG to discuss (1) preparation of the Annual State of the California Current Ecosystem Report and (2) future ecosystem initiatives under the Council's Fishery Ecosystem Plan (FEP).

Each March, the National Marine Fisheries Service's Northwest and Southwest Fisheries Science Centers deliver a State of the California Current Ecosystem Report to the Council. The Report assesses current status through a series of indicators covering physical, biological, and socioeconomic components of the ecosystem. The Council has provided advice to the Science Centers on how to make the report more relevant to Council decision-making including comments on the suite of indicators it uses. The webinar will provide an opportunity for the EWG to discuss preparation of the current Report with Science Center representatives and the contents of future reports.

At its March 2017 meeting, the Council will also consider taking up a new ecosystem-based fishery management initiative. Appendix A to the FEP contains a list of these initiatives, which are intended to address ecosystem gaps in ecosystem knowledge and FMP policies, particularly with respect to the cumulative effects of fisheries management on marine ecosystems and fishing communities. The FEP establishes a schedule by which each March the Council reviews progress to date on any ecosystem initiatives the Council already has underway and determines whether to take up a new initiative. In odd-numbered years the Council may also consider identifying new initiatives that are not already in Appendix A. The EWG will discuss current and potential new initiatives in preparation for the March 2017 Council meeting.

Although nonemergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt at (503) 820-2425 at least 10 business days prior to the meeting date.

Dated: December 14, 2016.
Tracey L. Thompson,
Acting Deputy Director, Office of Sustainable Fisheries, National Marine Fisheries Service.

[FR Doc. 2016-30416 Filed 12-16-16; 8:45 am]

BILLING CODE 3510-22-P